DEPARTMENT OF HEALTH AND HUMAN SERVICES

Centers for Disease Control and Prevention

[CDC-2019-0018; Docket Number NIOSH-328]

Final National Occupational Research Agenda for Healthy Work Design and Well-Being

AGENCY: National Institute for Occupational Safety and Health (NIOSH) of the Centers for Disease Control and Prevention (CDC), Department of Health and Human Services (HHS).

ACTION: Notice of availability.

SUMMARY: NIOSH announces the availability of the final National Occupational Research Agenda for Healthy Work Design and Well-Being.

DATES: The final document was published on January 31, 2020 on the CDC website.

ADDRESSES: The document may be obtained at the following link: https://www.cdc.gov/nora/councils/hwd/research-agenda.html.

FOR FURTHER INFORMATION CONTACT: Emily Novicki, M.A., M.P.H. (NORACoordinator@cdc.gov), National Institute for Occupational Safety and Health, Centers for Disease Control and Prevention, Mailstop V24-4, 1600 Clifton Road NE, Atlanta, GA 30329, phone (404) 498-2581 (not a toll free number).

SUPPLEMENTARY INFORMATION: On March 12, 2019, NIOSH published a request for public comment on the draft version of the National Occupational Research Agenda for Healthy Work Design and Well-Being (84 FR 8871). NIOSH received comments from eleven commenters. These commenters included academia, professional organizations, and the general public. All comments received were carefully reviewed and addressed where appropriate by the NORA Healthy Work Design and Well-Being Cross-Sector Council.

Throughout the final document, the descriptive text and accompanying research objectives were revised and expanded in response to comments, usually to clarify meaning or add nuance. Among the changes, the background under Objective 2: Improve the Safety, Health, and Well-Being of Workers with Non-Standard Work Arrangements, was expanded to include additional survey data, discussion of holding multiple jobs simultaneously, and the connection between non-standard work arrangements and chronic opioid use. The research gaps were revised and expanded accordingly. The Council also clarified that interactions among research strategies aiming to address individual objectives are encouraged even when not explicitly noted as a means to identify and address solutions at the intersections of the objectives. A Response to Public Comment document can be found in the Supporting Documents tab for this docket on www.regulations.gov.

John J. Howard,
Director, National Institute for Occupational Safety and Health, Centers for Disease Control and Prevention.

[FR Doc. 2020-02328 Filed 2-5-20; 8:45 am]

BILLING CODE 4163-18-P